COMMISSION ON CIVIL RIGHTS

Notice of Sunshine Act Meeting

AGENCY: U.S. Commission on Civil Rights.

DATE AND TIME: Wednesday, July 5, 2006, 12 p.m.

PLACE: U.S. Commission on Civil Rights, 624 9th Street, NW., Washington, DC 20425. Via Teleconference, Public Call-In number: 1-800-347-3350, Access Code Number: 50835285, Federal Relay Service: 1-800-877-8339.

STATUS:

Agenda

I. Approval of Agenda.

II. Approval of Minutes of May 4, May 5, and June 16, 2006 Meetings.

III. Announcements.

IV. Staff Director's Report.

V. Program Planning.

• FY 2008 Statutory Report on Religious Discrimination and Prisoner Rights.

• Schedule for Briefing on Magnet Schools and Racial Discrimination.

• Schedule for Briefing on Racially Identifiable School Districts in Omaha, NE.

VI. Management and Operations.

• Web site: Posting Addendum to Transcript of November 2005 Briefing on Campus Anti-Semitism.

• Proposed Information Quality Guidelines.

• Strategic Planning.

VII. State Advisory Committee Issues.

• Religious Discrimination and Prisoner Rights.

• Recharter Package for the North Carolina State Advisory Committee.

VIII. Future Agenda Items.

FOR FURTHER INFORMATION CONTACT: To ensure that the Commission secures an appropriate number of lines for the public, persons are asked to register by contacting Audrey Wright of the Office of the Staff Director at (202) 376-7700 or TTY (202) 376-8116, by noon (EST) on Monday, July 3, 2006.

Any interested member of the public may call the above call-in number and listen to the meeting. Callers will incur no charges for calls using the call-in number over land-line connections. Persons with hearing impairments may also follow the proceedings by first calling the Federal Relay Service and providing the Service with the conference call-in number and access code.

Kenneth L. Marcus,
Staff Director, Acting General Counsel.

[FR Doc. 06-5784 Filed 6-23-06; 4:10 pm]

BILLING CODE 6335-01-M